DEPARTMENT OF COMMERCE

National Telecommunications and Information Administration

Agency Information Collection Activities; Submission to the Office of Management and Budget (OMB) for Review and Approval; Comment Request; Application for State Digital Equity Capacity Grant Program and Tribal Digital Equity Planning and Capacity Programs

AGENCY: National Telecommunications and Information Administration (NTIA), Commerce.

ACTION: Notice of information collection, request for comment.

SUMMARY: The Department of Commerce, in accordance with the Paperwork Reduction Act of 1995 (PRA), invites the general public and other Federal agencies to comment on proposed and continuing information collections, which help us assess the impact of our information collection requirements and minimize the public's reporting burden. The purpose of this notice is to allow for 60 days of public comment preceding submission of the collection to OMB.

DATES: To ensure consideration, comments regarding this proposed information collection must be received on or before January 2, 2024.

ADDRESSES: Interested persons are invited to submit written comments by mail to Arica Cox, Telecommunications Policy Analyst, Grants Management and Compliance, Office of Internet Connectivity and Growth, National Telecommunication and Information Administration, U.S. Department of Commerce, 1401 Constitution Avenue NW, Room 4826, Washington, DC 20230, or by email to broadbandusa@ntia.gov. Please reference “Digital Equity Application Forms Comment” in the subject line of your comments. Do not submit Confidential Business Information or otherwise sensitive or protected information.

FOR FURTHER INFORMATION CONTACT: Requests for additional information or specific questions related to collection activities should be directed to Arica Cox, Telecommunications Policy Analyst, Grants Management and Compliance, via email at acox@ntia.gov; broadbandusa@ntia.gov; or via telephone at (202) 482-2048.

SUPPLEMENTARY INFORMATION:

I. Abstract

The Infrastructure Investment and Jobs Act, 2021 (Infrastructure Act or Act), Public Law 117-58, 135 Stat. 429 (November 15, 2021) (Infrastructure Act or Act), also known as the Bipartisan Infrastructure Law, provided $65 billion of funding for programs to close the digital divide and ensure that all Americans have access to affordable, reliable, high-speed internet. NTIA administers six broadband connectivity grant programs funded by the Act, including the State Digital Equity Planning Grant (SDEPG) and the State Digital Equity Capacity Grant Program (SDECG). The SDEPG provides federal funding for grants to eligible applicants for the purpose of developing Digital Equity Plans. Through these Plans, entities will, among other things, identify barriers to digital equity in the State and strategies for overcoming those barriers. The purpose of SDECG is to promote the achievement of digital equity, support digital inclusion activities, and build capacity for efforts by States, U.S. territories and possessions, Indian Tribes, Alaska Native entities, and Native Hawaiian organizations relating to the adoption of broadband. The SDECG provides new federal funding for grants to eligible applicants for the purpose of implementing the State Digital Equity Plan and pursuing digital inclusion activities consistent with the State Digital Equity Plan. Further, the Tribal Digital Equity Planning and Capacity Program will provide funding for grants to Indian Tribes, Alaska Native entities, and Native Hawaiian organizations to develop their own digital equity plans and pursue digital inclusion activities, consistent with the SDEPG and the SDECG.

NTIA will use the information collected from each applicant to effectively review the proposed applications and budgets from States and U.S. Territories and Possessions for the State Digital Equity Capacity Program, and from Indian Tribes, Alaska Native entities, and Native Hawaiian organizations for the Tribal Digital Equity Planning and Capacity Program.

II. Method of Collection

NTIA will collect data through both electronic and mail submission.

III. Data

OMB Control Number: 0660-XXXX.

Form Number(s): TBD.

Type of Review: Regular submission for a new information collection.

Affected Public: States, territories or possessions of the United States, Indian Tribes, Alaska Native entities, and Native Hawaiian organizations applying for Infrastructure Act Broadband Grant Program funding.

Estimated Number of Respondents: 56 for State Digital Equity Capacity Grant application, 494 for Tribal Digital Equity Planning & Capacity Grant application.

Estimated Time per Response: 8 hours for State Digital Equity Capacity Grant application, 18 hours for Tribal Digital Equity Planning & Capacity Grant application.

Estimated Total Annual Burden Hours: 7,424.

Estimated Total Annual Cost to Public: $354,347.52.

Respondent's Obligation: Mandatory.

Legal Authority: Sections 60304(c) and 60304(d) of the Infrastructure Investment and Jobs Act of 2021, Public Law 117-58, 135 Stat. 429 (November 15, 2021).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-24374 Filed 11-2-23; 8:45 am]

BILLING CODE 3510-60-P